DEPARTMENT OF TRANSPORTATION

National Highway Traffic Safety Administration

Petition for Exemption from the Federal Motor Vehicle Motor Theft Prevention Standard; Jaguar Land Rover

AGENCY: National Highway Traffic Safety Administration, Department of Transportation (DOT).

ACTION: Grant of petition for exemption.

SUMMARY: This document grants in full the petition of Jaguar Land Rover North America's, (Jaguar) petition for an exemption of the XJ vehicle line in accordance with 49 CFR Part 543, Exemption from the Theft Prevention Standard. This petition is granted because the agency has determined that the anti-theft device to be placed on the line as standard equipment is likely to be as effective in reducing and deterring motor vehicle theft as compliance with the parts-marking requirements of the Theft Prevention Standard (49 CFR part 541).

DATES: The exemption granted by this notice is effective beginning with model year (MY) 2010.

FOR FURTHER INFORMATION CONTACT: Ms. Carlita Ballard, Office of International Policy, Fuel Economy and Consumer Programs, NHTSA, W43-439, 1200 New Jersey Avenue, SE., Washington, DC 20590. Ms. Ballard's phone number is (202) 366-0846. Her fax number is (202) 493-2990.

SUPPLEMENTARY INFORMATION: In a petition dated May 11, 2009, Jaguar requested an exemption from the parts-marking requirements of the theft prevention standard (49 CFR Part 541) for the XJ vehicle line beginning with MY 2010. The petition has been filed pursuant to 49 CFR part 543, Exemption from Vehicle Theft Prevention Standard, based on the installation of an anti-theft device as standard equipment for the entire vehicle line.

Under § 543.5(a), a manufacturer may petition NHTSA to grant an exemption for one vehicle line per model year. In its petition, Jaguar provided a detailed description and diagram of the identity, design, and location of the components of the anti-theft device for the XJ vehicle line. Jaguar stated that the XJ vehicles will be equipped with a passive, transponder based, electronic engine immobilizer device as standard equipment beginning with the 2010 model year. Additionally, Jaguar states that its vehicle security system also includes an audible and visual perimeter alarm system as standard equipment and can be armed with the Smart Key or programmed to be passively armed. The perimeter alarm system can be programmed to arm automatically 30 seconds after all doors, luggage compartment and hood apertures are closed and the Smart Key is removed from the vehicle. The siren will sound and exterior lights will flash if the hood, luggage compartment, or doors are open during unauthorization.

Jaguar stated that there are three methods to its system operation, one method of operation consist of the driver approaching the vehicle and pulling on the driver's door handle, when the door handle is pulled, the Keyless Vehicle Module via the Low frequency Door Handle Antenna sends a signal to the Key Fob by using a resonant frequency of 125 KHz. The Key fob will decrypt the data received along with its unique identifier and send an answer back to the Keyless Vehicle Module via the Remote Frequency Receiver. On pressing the ignition start button, a search is commenced in order to find and authenticate the Smart Key within the vehicle interior. If successful, this information is passed via a coded data transfer to the Body Control Module (BCM) via the Remote Function Actuator. The BCM in turn, will pass the valid key status to the instrument cluster, via a coded data transfer. The BCM sends the key valid message to the Power Train Control Module which initiates a coded data transfer, then the engine is authorized to crank, fuel and start. The second method is by using the Smart Key unlock button, upon pressing the button, the doors will unlock, once the driver presses the ignition start button, the operation is the same as method one. The third method is if the Smart Key has a discharged battery or is damaged, there is an emergency key blade that can be removed from the Smart Key and used to unlock the doors. On pressing the ignition start button, a search is commenced in order to find and authenticate the Smart Key within the vehicle interior, if successful, the Smart Key needs to be docked. Once the Smart Key is placed in the correct position, and the ignition start button is pressed again, the BCM and Smart key enter a coded data exchange via the Immobilizer Antenna Unit, the BCM in turn, passes the valid key status to the instrument cluster, via a coded data transfer. The BCM sends the key valid message to the Power Train Control Module which initiates a coded data transfer, if successful the engine is authorized to crank, fuel and start.

In addressing the specific content requirements of 543.6, Jaguar provided information on the reliability and durability of its proposed device. To ensure reliability and durability of the device, Jaguar conducted tests based on its own specified standards. Jaguar provided a detailed list of the tests conducted (i.e., temperature and humidity cycling, high and low temperature cycling, mechanical shock, random vibration, thermal stress/shock tests, material resistance tests, dry heat, dust and fluid ingress tests). Jaguar stated that it believes that its device is reliable and durable because it complied with specified requirements for each test. Additionally, Jaguar stated that the key recognition sequence includes in excess of a billion code combinations. The code combinations include encrypted data that are secure against copying, also the coded data transfer between modules use a unique secure identifier, random number and secure public algorithm which includes an excess of a billion code combinations.

Jaguar stated that the current generation Jaguar XJ line produced since 2004 MY has an engine immobilizer system as standard equipment, but since the current generation of Jaguar XJ has only been available with an engine immobilizer, there is no comparative Jaguar data available for the XJ without an immobilizer. Also, Jaguar stated that based on MY 2006 theft information published by NHTSA, the Jaguar XJ line has had theft rates well below the median of 2.08 thefts per thousands, specifically, for the XJ8/XJ8L vehicle line,0.8711, the Vanden Plas/Super V8, 0.000, and the XJR, 0.0000. Jaguar believes this low theft rate demonstrates the effectiveness of the immobilizer system.

Based on the evidence submitted by Jaguar, the agency believes that the anti-theft device for the XJ vehicle line is likely to be as effective in reducing and deterring motor vehicle theft as compliance with the parts-marking requirements of the Theft Prevention Standard (49 CFR part 541).

Pursuant to 49 U.S.C. 33106 and 49 CFR 543.7 (b), the agency grants a petition for exemption from the parts-marking requirements of Part 541, either in whole or in part, if it determines that, based upon substantial evidence, the standard equipment anti-theft device is likely to be as effective in reducing and deterring motor vehicle theft as compliance with the parts-marking requirements of part 541. The agency finds that Jaguar has provided adequate reasons for its belief that the anti-theft device for the Jaguar XJ vehicle line is likely to be as effective in reducing and deterring motor vehicle theft as compliance with the parts-marking requirements of the Theft Prevention Standard (49 CFR part 541). This conclusion is based on the information Jaguar provided about its device.

The agency concludes that the device will provide the five types of performance listed in § 543.6(a)(3): promoting activation; attract attention to the efforts of an unauthorized person to enter or move a vehicle by means other than a key; preventing defeat or circumvention of the device by unauthorized persons; preventing operation of the vehicle by unauthorized entrants; and ensuring the reliability and durability of the device.

For the foregoing reasons, the agency hereby grants in full Jaguar's petition for exemption for the Jaguar XJ vehicle line from the parts-marking requirements of 49 CFR part 541. The agency notes that 49 CFR part 541, appendix A-1, identifies those lines that are exempted from the Theft Prevention Standard for a given model year. 49 CFR 543.7(f) contains publication requirements incident to the disposition of all part 543 petitions. Advanced listing, including the release of future product nameplates, the beginning model year for which the petition is granted and a general description of the anti-theft device is necessary in order to notify law enforcement agencies of new vehicle lines exempted from the parts marking requirements of the Theft Prevention Standard.

If Jaguar decides not to use the exemption for this line, it should formally notify the agency. If such a decision is made, the line must be fully marked according to the requirements under 49 CFR 541.5 and 541.6 (marking of major component parts and replacement parts).

NHTSA notes that if Jaguar wishes in the future to modify the device on which this exemption is based, the company may have to submit a petition to modify the exemption. Part 543.7(d) states that a Part 543 exemption applies only to vehicles that belong to a line exempted under this part and equipped with the anti-theft device on which the line's exemption is based. Further, part 543.9(c)(2) provides for the submission of petitions “to modify an exemption to permit the use of an anti-theft device similar to but differing from the one specified in that exemption.”

The agency wishes to minimize the administrative burden that part 543.9(c)(2) could place on exempted vehicle manufacturers and itself. The agency did not intend in drafting Part 543 to require the submission of a modification petition for every change to the components or design of an anti-theft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: November 6, 2009.
Stephen R. Kratzke,
Associate Administrator for Rulemaking.

[FR Doc. E9-27361 Filed 11-13-09; 8:45 am]

BILLING CODE 4910-59-P